DEPARTMENT OF THE INTERIOR

Fish and Wildlife Service

Information Collection for Monitoring Species After Delisting Under the Endangered Species Act

AGENCY: Fish and Wildlife Service, Interior.

ACTION: Notice; request for comments.

SUMMARY: The collection of information described below has been submitted to OMB for approval under the provisions of the Paperwork Reduction Act of 1995. Copies of specific information collection requirements, related forms and explanatory material may be obtained by contacting the Information Collection Clearance Officer of the U.S. Fish and Wildlife Service at the address and/or phone numbers listed below (see ADDRESSES).

DATES: OMB has up to 60 days to approve or disapprove information collection but may respond after 30 days. Therefore, to ensure maximum consideration, you must submit comments on or before January 30, 2002.

ADDRESSES: Send your comments on specific requirements to the Office of Management and Budget, Attention: Department of the Interior Desk Officer, 725 17th Street, NW, Washington, DC 20503, and to Rebecca A. Mullin, Information Collection Clearance Officer, U.S. Fish and Wildlife Service, Mail Stop 222-ARLSQ; 4401 N. Fairfax Drive, Arlington, VA 22203, 703/358-2287.

FOR FURTHER INFORMATION CONTACT: To receive a copy of the information collection approval request, explanatory information and related forms, contact Rebecca A. Mullin, Information Collection Clearance Officer (see ADDRESSES). Questions related to the Endangered Species Act requirements for monitoring of recovered species may be directed to Renne Lohoefener, Chief, Division of Consultation, Habitat Conservation Plans, Recovery, and State Grants, 703/358-2171.

SUPPLEMENTARY INFORMATION: The Office of Management and Budget (OMB) regulations at 5 CFR Part 1320, which implement the Paperwork Reduction Act of 1995 (Pub. L. 104-13), require that interested members of the public and affected agencies have an opportunity to comment on information collection and recordkeeping activities (see 5 CFR 1320.8(d)). OMB regulations at 5 CFR 1320.3(c) define the collection of information as the obtaining of information by or for an agency by means of identical questions posed to, or identical reporting, record-keeping, or disclosure requirements imposed on 10 or more persons. Furthermore, 5 CRF 1320.3(c)(4) specifies that “10 or more persons” refers to the persons to whom a collection of information is addressed by the agency within any 12-month period. For the purposes of this definition, employees of the Federal government are not included in the definition of “persons.” Federal agencies may not conduct or sponsor, and a person is not required to respond to, a collection of information unless it displays a currently valid OMB control number.

Section 4(g) of the Endangered Species Act (ESA) requires that all species that are recovered and removed from the lists of endangered and threatened species (delisted) be monitored for a period of not less than 5 years. The purpose of this requirement is to detect any failure of a recovered species to sustain itself without the protections of the ESA. We, the U.S. Fish and Wildlife Service (Service) work with relevant State agencies and other species experts to develop appropriate plans and procedures for systematically monitoring recovered wildlife and plants. In many cases, collections of information from monitoring of recovered species will not require approval by OMB under the Paperwork Reduction Act because monitoring will require collection of information from less than 10 non-Federal persons per 12-month period.

We submitted the following information collection requirements to the Office of Management and Budget (OMB) for review and approval under the Paperwork Reduction Act of 1995, Public Law 104-13. A previous 60-day notice on this information collection requirement was published in the Federal Register on October 10, 2001, (66 FR 51681) inviting public comment for 60 days. The comment period expired on December 10, 2001, and no comments were received. This notice provides an additional 30 days in which to comment on the following information. We are requesting that OMB grant a 3-year term of approval for these information collection activities. The information collection requirements in this submission implement the regulatory requirements of the Endangered Species Act (16 U.S.C. 1539).

On October 17, 1998, OMB approved information collection relative to monitoring of the American peregrine falcon. OMB control number 1018-0101, Information Collection Requirements for Monitoring Peregrine Falcons Once the Species is Delisted, estimated that we would request 20 responses per year, requiring 12 annual burden hours on the part of respondents. The American peregrine falcon was removed from the list of Endangered and Threatened Wildlife on August 25, 1999, but formal collection of monitoring data under section 4(g) of the ESA has not yet commenced. OMB approval under control number 1018-0101 expires on December 31, 2001.

We have consolidated its information collection requirements pursuant to the monitoring of all recovered species, including the American peregrine falcon, that will require identical questions posed to 10 or more non-Federal persons per 12-month period, thereby streamlining fulfillment of monitoring requirements for recovered species. Information collection meeting these criteria will usually be limited to species with large geographic ranges that include substantial amounts of non-Federal land. Although the ESA requires that monitoring of recovered species be conducted for not less than 5 years, the life history of some species will make it appropriate to monitor the species for a longer period of time in order to meaningfully evaluate whether the recovered species continues to maintain itself. In such cases, collection of monitoring data may occur on a multi-year interval (for example, data may be collected every second year, totaling eight information collections over a 15-year period). Information collection will commonly include data on species abundance, reproduction rates, and, in some cases, impacts of potential threats to the species. Data compilation and preparation of responses will generally be performed by professional biologists employed by Federal and State agencies and other organizations that have been involved in past species conservation efforts. Information requests may vary by respondent, and both requests and responses will primarily be in written format. Forms are not appropriate for this type of information collection, as effective requests and responses must accommodate variability in species across their geographic range and allow respondents latitude for full and accurate communication of the data.

We expect that, in addition to the American peregrine falcon, three to four other species may be removed from the list of threatened and endangered species due to recovery and will require collection of post-delisting monitoring information from 10 or more persons within a 12-month period before the end of 2004. Therefore, we are requesting a change to the currently approved information collection for the American peregrine falcon to include these additional species.

Annual burden estimates for collection of monitoring data for all recovered species pursuant to section 4(g) of the ESA, between January 1, 2002, and December 31, 2004, and requiring OMB approvals under the Paperwork Reduction Act are summarized below. Annual variation reflects monitoring of the American peregrine falcon in 2002 only (the next monitoring period for this species will occur in 2005) and anticipated increases in the number of other recovered species:

Year | Estimated number of respondents per year | Estimated average time required per report (In hours) | Average total annual burden hours
2002 | 95 | 2 | 190
2003 | 110 | 2 | 220
2004 | 135 | 2 | 270

Comments are invited on (1) whether the collection of information described in this notice is necessary for the proper performance of monitoring of recovered species as prescribed in section 4(g) of the ESA, including whether the information will have practical utility; (2) the accuracy of the agency's estimate of burden, including the validity of the methodology and assumptions used; (3) ways to enhance the quality, utility, and clarity of the information on those who are to respond, including through the use of appropriate automated, electronic, mechanical, or other technological collection techniques or other forms of information technology; (4) ways to minimize the burden of the collection of information on respondents. The information collections in this program will be part of a system of records covered by the Privacy Act (5 U.S.C. 552(a)).

Dated: December 18, 2001.
Rebecca A. Mullin,
Fish and Wildlife Service, Information Collection Clearance Officer.

[FR Doc. 01-32122 Filed 12-28-01; 8:45 am]

BILLING CODE 4310-55-P